DEPARTMENT OF ENERGY

Federal Energy Regulatory Commission

Combined Notice of Filings

March 31, 2009.

Take notice that the Commission has received the following Natural Gas Pipeline Rate and Refund Report filings:

Docket Numbers: RP95-408-073.

Applicants: Columbia Gas Transmission, LLC.

Description: Columbia Gas Transmission, LLC submits Report on Sharing of Profits from Base Gas Sales with Customers under the provisions of the Stipulation.

Filed Date: 03/26/2009.

Accession Number: 20090327-0023.

Comment Date: 5 p.m. Eastern Time on Tuesday, April 07, 2009.

Docket Numbers: RP96-200-205.

Applicants: CenterPoint Energy Gas Transmission Company.

Description: CenterPoint Energy Gas Transmission Company submits Amended Negotiated Rate Agreement with Enbridge Marketing, LP under RP96-200.

Filed Date: 03/26/2009.

Accession Number: 20090327-0024.

Comment Date: 5 p.m. Eastern Time on Tuesday, April 07, 2009.

Docket Numbers: RP99-176-192.

Applicants: Natural Gas Pipeline Company of America LLC.

Description: Natural Gas Pipeline Company of America LLC submits First Revised Sheet 33H. 02 et al. to its FERC Gas Tariff, Seventh Revised Volume 1, to be effective 4/1/09.

Filed Date: 03/27/2009.

Accession Number: 20090330-0016.

Comment Date: 5 p.m. Eastern Time on Wednesday, April 08, 2009.

Docket Numbers: RP99-176-193.

Applicants: Natural Gas Pipeline Company of America LLC.

Description: Natural Gas Pipeline Company of America, LLC submits Original Sheet 34L.01 et al. to its FERC Gas Tariff, Seventh Revised Volume 1, to be effective 4/1/09.

Filed Date: 03/27/2009.

Accession Number: 20090330-0017.

Comment Date: 5 p.m. Eastern Time on Wednesday, April 08, 2009.

Docket Numbers: RP99-513-048.

Applicants: Questar Pipeline Company.

Description: Questar Pipeline Company submits Sixth Revised Sheet 7.01 et al. to FERC Gas Tariff, First Revised Volume 1.

Filed Date: 03/27/2009.

Accession Number: 20090330-0015.

Comment Date: 5 p.m. Eastern Time on Wednesday, April 08, 2009.

Docket Numbers: RP00-426-042.

Applicants: Texas Gas Transmission, LLC.

Description: Texas Gas Transmission, LLC submits Original Sheet No 77 et al. to FERC Gas Tariff, Third Revised Volume No 1, to be effective 4/1/09.

Filed Date: 03/27/2009.

Accession Number: 20090330-0020.

Comment Date: 5 p.m. Eastern Time on Wednesday, April 08, 2009.

Docket Numbers: RP04-274-018.

Applicants: Kern River Gas Transmission Company.

Description: Kern River Gas Transmission Company submits First Revised Sheet 5.01 et al. to its FERC Gas Tariff, Second Revised Volume 1, to be effective 1/1/09.

Filed Date: 03/27/2009.

Accession Number: 20090330-0014.

Comment Date: 5 p.m. Eastern Time on Wednesday, April 08, 2009.

Docket Numbers: RP09-260-002.

Applicants: Tres Palacios Gas Storage, LLC.

Description: Tres Palacios Gas Storage LLC's submission of additional information and revised tariff sheets in response to the Commission 2/24/09 Order.

Filed Date: 03/26/2009.

Accession Number: 20090327-0029.

Comment Date: 5 p.m. Eastern Time on Tuesday, April 07, 2009.

Docket Numbers: RP09-306-002.

Applicants: Kern River Gas Transmission Company.

Description: Kern River Gas Transmission Company submits Substitute Third Revised Sheet 143 to its FERC Gas Tariff, Second Revised Volume 1, to be effective 7/30/08.

Filed Date: 03/27/2009.

Accession Number: 20090330-0018.

Comment Date: 5 p.m. Eastern Time on Wednesday, April 08, 2009.

Docket Numbers: RP09-465-002.

Applicants: Kern River Gas Transmission Company.

Description: Kern River Gas Transmission Company submits Fourth Revised Sheet 301 et al. to its FERC Gas Tariff, Second Revised Volume 1, to be effective 4/20/09.

Filed Date: 03/27/2009.

Accession Number: 20090330-0019.

Comment Date: 5 p.m. Eastern Time on Wednesday, April 08, 2009.

Docket Numbers: RP09-469-000.

Applicants: Southern Star Central Gas Pipeline, Inc.

Description: Southern Star Central Gas Pipeline, Inc submits Second Revised Sheet 150 et al. to FERC Gas Tariff, Original Volume No 1, to be effective 5/1/09.

Filed Date: 03/27/2009.

Accession Number: 20090330-0021.

Comment Date: 5 p.m. Eastern Time on Wednesday, April 08, 2009.

Docket Numbers: RP09-470-000.

Applicants: Texas Gas Transmission, LLC.

Description: Texas Gas Transmission, LLC submits First Revised Sheet 2000 to its FERC Gas Tariff, Third Revised Volume 1, to be effective 5/1/09.

Filed Date: 03/27/2009.

Accession Number: 20090330-0013.

Comment Date: 5 p.m. Eastern Time on Wednesday, April 08, 2009.

Docket Numbers: RP09-471-000.

Applicants: White River Hub, LLC.

Description: White River Hub, LLC submits Second Revised Sheet 7 et al. to its FERC Gas Tariff, Original Volume 1, to be effective 4/28/08.

Filed Date: 03/27/2009.

Accession Number: 20090330-0012.

Comment Date: 5 p.m. Eastern Time on Wednesday, April 08, 2009.

Docket Numbers: RP09-472-000.

Applicants: Southern LNG Inc.

Description: Southern LNG, Inc submits Second Revised Sheet 75 et al. to its FERC Gas Tariff, Original Volume 1, to be effective 7/30/08 pursuant to Order 712.

Filed Date: 03/27/2009.

Accession Number: 20090330-0011.

Comment Date: 5 p.m. Eastern Time on Wednesday, April 08, 2009.

Docket Numbers: RP09-473-000.

Applicants: Midcontinent Express Pipeline LLC.

Description: Midcontinent Express Pipeline submits First Revised Sheet 6 et al. to its FERC Gas Tariff, Original Volume 1, to be effective 4/1/09.

Filed Date: 03/27/2009.

Accession Number: 20090330-0010.

Comment Date: 5 p.m. Eastern Time on Wednesday, April 08, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-8036 Filed 4-8-09; 8:45 am]

BILLING CODE 6717-01-P